COMMITTEE FOR PURCHASE FROM PEOPLE WHO ARE BLIND OR SEVERELY DISABLED

Procurement List Additions and Deletions

AGENCY: Committee for Purchase From People Who Are Blind or Severely Disabled.

ACTION: Additions to and deletions from the Procurement List.

SUMMARY: This action adds product(s) and/or service(s) to the Procurement List that will be furnished by nonprofit agencies employing persons who are blind or have other severe disabilities, and deletes product(s) and/or service(s) from the Procurement List previously furnished by such agencies.

DATES: Effective October 23, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Addition

On 6/10/2016 (81 FR 37581-37582), the Committee for Purchase From People Who Are Blind or Severely Disabled published notice of proposed addition to the Procurement List.

After consideration of the material presented to it concerning capability of qualified nonprofit agency to provide the service and impact of the addition on the current or most recent contractors, the Committee has determined that the service listed below is suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will provide the service to the Government.

2. The action will result in authorizing small entities to provide the service to the Government.

3. There are no known regulatory alternatives which would accomplish the objectives of the Javits-Wagner-O'Day Act (41 U.S.C. 8501-8506) in connection with the service proposed for addition to the Procurement List.

End of Certification

Accordingly, the following service is added to the Procurement List:

Service

Service Type: Transcription Service

Service Mandatory for: U.S. Navy, Naval Medical Logistics Command, 693 Neiman Street, Fort Detrick, MD

Mandatory Source(s) of Supply: Lighthouse for the Blind of Houston, Houston, TX

Contracting Activity: Dept of the Navy, Naval Medical Logistics Command

Deletions

On 8/19/2016 (81 FR 55447-55448) and 8/26/2016 (81 FR 58913-58917), the Committee for Purchase From People Who Are Blind or Severely Disabled published notices of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 8501-8506) in connection with the services deleted from the Procurement List.

End of Certification

Accordingly, the following services are deleted from the Procurement List:

Services

Service Type: Janitorial/Custodial Service

Mandatory for: Gerald W. Heaney Federal Building and U.S. Courthouse, 515 West First Street, Duluth, MN

Mandatory Source(s) of Supply: Goodwill Industries Vocational Enterprises, Inc., Duluth, MN

Contracting Activity: Public Buildings Service, Property Management Service Center

Service Type: Custodial Service

Mandatory for: Superior National Forest Supervisors Office, 8901 Grand Avenue Place, Duluth, MN

Mandatory Source(s) of Supply: Goodwill Industries Vocational Enterprises, Inc., Duluth, MN

Contracting Activity: Forest Service, Superior National Forest

Service Type: Food Service Attendant

Mandatory for: 148th Fighter Wing: 4680 Viper St. (Dining Hall), Duluth, MN

Mandatory Source(s) of Supply: Goodwill Industries Vocational Enterprises, Inc., Duluth, MN

Contracting Activity: Dept of the Army, W7NG USPFO ACTIVITY MN ARNG

Service Type: Janitorial/Custodial Service

Mandatory for: U.S. Army Reserve Center: 1500 St. Louis Avenue, Duluth, MN

Mandatory Source(s) of Supply: Goodwill Industries Vocational Enterprises, Inc., Duluth, MN

Contracting Activity: Dept of the Army, W6QM MICC FT MCCOY (RC)

Service Type: Recycling Service

Mandatory for: March Air Reserve Base, March Air Force Reserve Base, CA

Mandatory Source(s) of Supply: Valley Resource Center for the Retarded, Inc., Hemet, CA

Contracting Activity: Dept of the Air Force, FA7014 AFDW PK

Service Type: Mailing Service

Mandatory for: USDA, Farm Service Agency, Phoenix, AZ

Mandatory Source(s) of Supply: Goodwill Community Services, Inc., Phoenix, AZ

Contracting Activity: Department of Agriculture, Procurement Operations Division

Service Type: Car Wash Service

Mandatory for: Customs and Border Protection, Indio Border Station, 83-801 Vin Deo Circle, Indio, CA

Mandatory Source(s) of Supply: Sheltering Wings Corp., Blythe, CA

Contracting Activity: U.S. Customs and Border Protection, Procurement Directorate

Service Type: Custodial Service

Mandatory for: FAA, Air Traffic Control Tower, Duluth International Airport, 4525 Airport Approach Road, Duluth, MN

Mandatory Source(s) of Supply: Goodwill Industries Vocational Enterprises, Inc., Duluth, MN

Contracting Activity: Dept of Transportation, Federal Aviation Administration

Service Type: Recycling Service

Mandatory for: Naval Weapons Station: NAWS Recycling Center, China Lake, CA

Mandatory Source(s) of Supply: Desert Area Resources and Training, Ridgecrest, CA

Contracting Activity: Dept of the Navy, U.S. Fleet Forces Command

Service Type: Grounds Maintenance Service

Mandatory for: China Lake Naval Air Weapons Station: Tot Lot Parks-Housing Area, China Lake, CA

Mandatory Source(s) of Supply: Desert Area Resources and Training, Ridgecrest, CA

Contracting Activity: Dept of the Navy, U.S. Fleet Forces Command

Service Type: Grounds Maintenance Service

Mandatory for: Defense Commissary Agency, China Lake Naval Air Weapons Station Commissary, 1 Administration Circle, China Lake, CA

Mandatory Source(s) of Supply: Desert Area Resources and Training, Ridgecrest, CA

Contracting Activity: Dept of the Navy, NAVFAC SOUTHWEST

Service Type: Data Entry/Data Base Management Service

Mandatory for: GSA, Washington: Federal Supply Service Bureau, L'Enfant Plaza, Washington, DC

Mandatory Source(s) of Supply: Virginia Industries for the Blind, Charlottesville, VA

Contracting Activity: General Services Administration, FPDS Agency Coordinator

Service Type: Food Service Attendants Service

Mandatory for: CRTC Dining Facility, 1401 Robert B. Miller Jr. Drive, Garden City, GA

Mandatory Source(s) of Supply: Trace, Inc., Boise, ID

Contracting Activity: Dept of the Air Force, FA6643 AF Reserve CMD HQ AFRC PK

Barry S. Lineback,
Director, Business Operations.

[FR Doc. 2016-22980 Filed 9-22-16; 8:45 am]

BILLING CODE 6353-01-P